FEDERAL COMMUNICATIONS COMMISSION

47 CFR Part 52

[CC Docket No. 99-200; CC Docket No. 96-98; FCC 00-104]

Numbering Resource Optimization; Correction

AGENCY: Federal Communications Commission.

ACTION: Correcting amendments.

SUMMARY: This document contains a correction to a final regulation (47 CFR 52.15(f)(1)(ii)) published in the Federal Register on June 16, 2000 (65 FR 37703). The regulation related to the maximum amount of days that numbers previously assigned to business and residential customers could be aged. Inadvertently, the number “360,” instead of “365,” was included in that regulation as the maximum amount of days that numbers previously assigned to business customers could be aged.

DATES: Effective May 14, 2003.

FOR FURTHER INFORMATION CONTACT: Jennifer Gorny, Attorney-Advisor, Telecommunications Access Policy Division, Wireline Competition Bureau, (202) 418-7400 or e-mail at jgorny@fcc.gov.

SUPPLEMENTARY INFORMATION:

Background

On June 16, 2000, the Federal Communications Commission published in the Federal Register (65 FR 37703) a document amending section 52.15(f) of its rules to include new information collection requirements. Inadvertently, the number “360,” instead of “365,” was placed in section 52.15(f)(1)(ii) as the maximum amount of days that a number previously assigned to a business customer could be aged. This document corrects paragraph (f)(1)(ii) of that rule.

List of Subjects in 47 CFR Part 52

Communications common carriers, Telecommunications, Telephone.

Accordingly, 47 CFR part 52 is corrected by making the following correcting amendment:

PART 52—NUMBERING

1. The authority citation for part 52 continues to read as follows:

Authority: Sections 1, 2, 4, 5, 48 Stat. 1066, as amended; 47 U.S.C. 151, 152, 154, 155 unless otherwise noted. Interpret or apply Secs. 3, 4, 201-05, 207-09, 218, 225-7, 251-2, 271 and 332, 48 Stat. 1070, as amended, 1077; 47 U.S.C. 153, 154, 201-205, 207-09, 218, 225-7, 251-2, 271 and 332 unless otherwise noted.

§ 52.15 [Corrected]

2. In § 52.15, paragraph (f)(1)(ii), in the last sentence, remove the number “360” and add, in its place, “365.”

Federal Communications Commission.
William F. Caton,
Deputy Secretary.

[FR Doc. 03-11963 Filed 5-13-03; 8:45 am]

BILLING CODE 6712-01-P